DEPARTMENT OF COMMERCE

National Oceanic and Atmospheric Administration

RIN 0648-XT74

Fisheries of the Exclusive Economic Zone Off Alaska; Recordkeeping and Reporting Requirements; Public Workshops

AGENCY: National Marine Fisheries Service (NMFS), National Oceanic and Atmospheric Administration (NOAA), Commerce.

ACTION: Notice of a technical workshop.

SUMMARY: NMFS, the Alaska Region, the Alaska Department of Fish and Game, and the International Pacific Halibut Commission will present a technical workshop to instruct customers how to use the eLandings Extensible Markup Language interface.

DATES: The workshop will be held on February 5, 2010, 9 a.m. to 5 p.m., Pacific Standard Time.

ADDRESSES: The workshop will be held at the Silver Cloud Inn Lake Union, 1150 Fairview Avenue North, Seattle, WA.

FOR FURTHER INFORMATION CONTACT: Susan Hall, 907-586-7462.

SUPPLEMENTARY INFORMATION: This is a technical workshop intended for seafood industry software development and information technology staff, third-party system developers, seafood operations managers, and information technology consultants. The Extensible Markup Language (XML) interface is designed to facilitate an exchange of landings and production data between eLandings and the organizations' operational systems to facilitate one-time data entry.

There will be a morning and an afternoon session. The morning session will include an overview of the eLandings and the XML interface, as well as some hands-on experience importing XML documents. The afternoon session will consist of hands-on programming, tutorials demonstrating tools, and useful techniques for interface development.

The agenda and workshop materials are under development but may be reviewed at: https://elandings.alaska.gov/confluence/display/tr/Agenda.

Due to the inclusion of hands-on tutorials in both sessions, attendees should bring a laptop with wireless Internet capability. Programmers attending the afternoon session can review the Resources page at https://elandings.alaska.gov/confluence/display/tr/Resources and prepare their development environment with the tools, which we will demonstrate at the workshop.

Special Accommodations

These workshops will be physically accessible to people with disabilities. Requests for sign language interpretation or other auxiliary aids should be directed to Susan Hall, 907-586-7462, at least five working days prior to the meeting date.

Dated: January 26, 2010.
Emily H. Menashes,
Acting Director, Office of Sustainable Fisheries, National Marine Fisheries Service.

[FR Doc. 2010-1875 Filed 1-26-10; 4:15 pm]

BILLING CODE 3510-22-S